COMMITTEE FOR PURCHASE FROM PEOPLE WHO ARE BLIND OR SEVERELY DISABLED

“Addition to the Procurement List” Correction

In the document appearing on page 72312, FR document 99-33491, in the issue of December 27, 1999, in the third column, the listing for Knife, Kitchen, NSN 7340-00-686-0863 should have been 7340-00-680-0863.

Louis R. Bartalot,
Deputy Director (Operations).

[FR Doc. 00-1486 Filed 1-20-00; 8:45 am]

BILLING CODE 6353-01-P